DEPARTMENT OF COMMERCE

National Oceanic and Atmospheric Administration

Proposed Information Collection; Comment Request; Marine Recreational Information Program Social Network Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 3, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument(s) and instructions should be directed to Dave Bard, (301) 427-8197 or David.Bard@NOAA.gov.

SUPPLEMENTARY INFORMATION:

I. Abstract

This request is for new information collection. The title will be “Marine Recreational Information Program Social Network Survey.”

In its 2017 review of NOAA Fisheries' Marine Recreational Information Program (MRIP), the National Academies of Sciences, Engineering, and Medicine, also known as the National Academies, recommended the program enhance its communications and outreach activities, particularly among the recreational fishing community. MRIP is taking an objective, research-based approach to doing so. In 2016, MRIP conducted a partner and stakeholder needs assessment. In 2018, MRIP will undertake a social network survey. This effort will help identify relationships, networks, channels, and information flow among a target population, in this case the numerous audiences that comprise the recreational fishing community. Completing this survey and the subsequent analysis will help MRIP more effectively engage with its audiences by identifying key influencers and information pathways, and identifying the areas of greatest need and greatest opportunity for relationship-building.

A mail survey sample will be drawn from the National Saltwater Angler Registry, a database of licensed recreational anglers living in the U.S. The information comes mostly from state-based saltwater fishing license and registration programs. Questions will explore such issues as broad information channels and pathways among recreational anglers; understanding of and confidence in recreational data collection, estimation, and reporting; confidence in their information sources; awareness of the distinctions and connections between recreational data collection and recreational fisheries management, etc., including regional differences. Data gathered will include angler use of and trust in different sources (e.g., other recreational anglers, recreational fishing clubs, state management agencies, federal management agencies, tackle shops, etc.) and channels (e.g., mass media, social media, personal conversations, online message boards, fishing club meetings, etc.) of fisheries management information. These data will be used to identify key information sources for recreational anglers, evaluate regional differences in information sources, and evaluate recreational angler confidence in management and data collection efforts, thus allowing MRIP to more effectively communicate with recreational anglers on data collection issues by focusing communications efforts on important network channels.

II. Method of Collection

Information will be collected through mail surveys.

III. Data

OMB Control Number:

Form Number: None.

Type of Review: Regular submission (new information collection).

Affected Public: Individuals or households.

Estimated Number of Respondents: 10,000.

Estimated Time per Response: 25 minutes.

Estimated Total Annual Burden Hours: 4,167.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 29, 2018.
Sarah Brabson,
NOAA PRA Clearance Officer.

[FR Doc. 2018-02044 Filed 2-1-18; 8:45 am]

BILLING CODE 3510-22-P